DEPARTMENT OF ENERGY

Federal Energy Regulatory Commission

[Project No. 12743-001]

Douglas County, Oregon; Notice of Intent To File License Application, Filing of Pre-Application Document, and Approving Use of the Traditional Licensing Process

June 24, 2008.

a. Type of Filing: Notice of Intent to File License Application and Request to Use the Traditional Licensing Process.

b. Project No.: 12743-001.

c. Date Filed: May 23, 2008.

d. Submitted By: Douglas County, Oregon.

e. Name of Project: Douglas County Wave & Tidal Energy Project.

f. Location: On the south jetty at the mouth of the Umpqua River near the town of Winchester Bay, Oregon. South jetty is owned and maintained by the United States Army Corps of Engineers.

g. Filed Pursuant to: 18 CFR 5.3 of the Commission's regulations.

h. Potential Applicant Contact: Ronald S. Yockim, 430 SE Main, P.O. Box 2456, Roseburg, Oregon, 97470; (541) 957-5900; e-mail—ryockim@cmspan.net.

i. FERC Contact: David Turner at (202) 502-6091; or e-mail at david.turner@ferc.gov.

j. Douglas County, Oregon filed its request to use the Traditional Licensing Process on May 23, 2008. Douglas County, Oregon provided public notice of its request on May 28, 2008. In a letter dated June 24, 2008, the Director of the Office of Energy Projects approved Douglas County, Oregon's request to use the Traditional Licensing Process.

k. With this notice, we are initiating informal consultation with: (a) The U.S. Fish and Wildlife Service under section 7 of the Endangered Species Act and the joint agency regulations thereunder at 50 CFR, Part 402; (b) NOAA Fisheries under section 305(b) of the Magnuson-Stevens Fishery Conservation and Management Act and implementing regulations at 50 CFR 600.920; and (c) the Washington State Historic Preservation Officer, as required by Section 106, National Historical Preservation Act, and the implementing regulations of the Advisory Council on Historic Preservation at 36 CFR 800.2.

l. Douglas County, Oregon filed a Pre-Application Document (PAD; including a proposed process plan and schedule) with the Commission, pursuant to 18 CFR 5.6 of the Commission's regulations.

m. A copy of the PAD is available for review at the Commission in the Public Reference Room or may be viewed on the Commission's Web site (http://www.ferc.gov), using the “eLibrary” link. Enter the docket number, excluding the last three digits in the docket number field to access the document. For assistance, contact FERC Online Support at FERCOnlineSupport@ferc.gov or toll free at 1-866-208-3676, of for TTY, (202) 502-8659. A copy is also available for inspection and reproduction at the address in paragraph h.

n. Register online at http://ferc.gov/esubscribenow.htm to be notified via e-mail of new filing and issuances related to this or other pending projects. For assistance, contact FERC Online Support.

Kimberly D. Bose,
Secretary.

[FR Doc. E8-15084 Filed 7-2-08; 8:45 am]

BILLING CODE 6717-01-P